DEPARTMENT OF COMMERCE

International Trade Administration

[A 588-707]

Granular Polytetrafluroetheylene Resin From Japan: Rescission of Antidumping Duty Administrative Review

AGENCY: Import Administration, International Trade Administration, Department of Commerce.

ACTION: Notice of rescission of antidumping duty administrative review.

SUMMARY: On September 30, 2003, the Department of Commerce initiated an administrative review of the antidumping duty order on granular polytetrafluoroetheylene resin from Japan for the period August 1, 2002, through July 31, 2003. The Department is rescinding this review after receiving timely withdrawals from the parties requesting the review.

EFFECTIVE DATE: November 28, 2003.

FOR FURTHER INFORMATION CONTACT: Dunyako Ahmadu or Richard Rimlinger, AD/CVD Enforcement 3, Import Administration, International Trade Administration, U.S. Department of Commerce, 14th Street and Constitution Avenue, NW., Washington, DC 20230; telephone (202) 482-0198 or (202) 482-4477, respectively.

Background

On August 1, 2003, the Department of Commerce (the Department) published in the Federal Register a notice of opportunity to request an administrative review of the antidumping duty order on granular polytetrafluoroetheylene resin from Japan. See Antidumping or Countervailing Duty Order, Finding, or Suspended Investigation; Opportunity to Request Administrative Review (68 FR 45218). On August 28, 2003, Asahi Glass Fluoropolymers Co., Ltd. and Asahi Glass Fluoropolymers USA Inc. (collectively AGF) requested that the Department conduct an administrative review of AGF's exports and imports for the period August 1, 2002, through July 31, 2003. On September 30, 2003, the Department published in the Federal Register a notice of initiation of this administrative review. See Notice of Initiation of Antidumping and Countervailing Duty Administrative Reviews, Request for Revocation in Part and Deferral of Administrative Review (68 FR 56262).

On October 20, 2003, AGF withdrew its request for review and requested that Department rescind the administrative review.

Rescission of Review

Pursuant to 19 CFR 351.213(d)(1), the Department will rescind an administrative review if a party that requested the review withdraws the request within 90 days of the date of publication of the notice of initiation of the requested review. Because AGF submitted its request for rescission within the 90-day time limit and there were no requests for a review from other interested parties, we are rescinding this review. As such, we will issue appropriate appraisement instructions directly to the U.S. Customs and Border Protection.

This notice is in accordance with section 777(i) of the Act and 19 CFR 351.213(d)(4).

Dated: November 21, 2003.
Jeffrey May,
Deputy Assistant Secretary, Import Administration.

[FR Doc. 03-29718 Filed 11-26-03; 8:45 am]

BILLING CODE 3510-DS-M